ENVIRONMENTAL PROTECTION AGENCY

[MN90; FRL-9272-2]

Notice of Issuance of Prevention of Significant Deterioration and Federal Operating Permits to Grand Casino Hinckley

AGENCY: Environmental Protection Agency (EPA).

ACTION: Notice.

SUMMARY: This notice announces that, on December 30, 2010, pursuant to title V of the Clean Air Act, EPA issued a title V Permit to Operate (title V permit) to the Mille Lacs Band Corporate Commission doing business as Grand Casino Hinckley. This permit authorizes Grand Casino Hinckley to operate three diesel-burning generator sets for peak load management and backup power at its facility in Hinckley, Minnesota. On December 30, 2010, pursuant to title I of the Clean Air Act, EPA also issued a modification of the facility's existing Prevention of Significant Deterioration (PSD) permit, also known as an Air Quality Construction Permit. The modification changes the permit's emissions testing frequency from every three years to every five years. The facility is located on the Mille Lacs Band of Ojibwe Indian Reservation.

DATES: During the public comment period for both permits, which ended April 5, 2010, EPA received comments on the draft title V permit, and revised the draft permit based on the comments. EPA mailed the final permit to the Mille Lacs Band Corporate Commission on January 4, 2011.

ADDRESSES: The final signed permits are available for public inspection online at http://yosemite.epa.gov/r5/r5ard.nsf/ Tribal+Permits!OpenView, or during normal business hours at the following address: EPA, Region 5, 77 West Jackson Boulevard (AR-18J), Chicago, Illinois 60604.

FOR FURTHER INFORMATION CONTACT: Kaushal Gupta, Environmental Engineer, EPA, Region 5, 77 West Jackson Boulevard (AR-18J), Chicago, Illinois 60604, (312) 886-6803 or gupta.kaushal@epa.gov.

SUPPLEMENTARY INFORMATION: This supplemental information is organized as follows:

A. What is the background information?

B. What is the purpose of this Notice?

A. What is the background information?

The three engines are Caterpillar Model 3516B turbocharged engines, each having 16 cylinders. Each engine operates at a rated speed of 1,800 revolutions per minute, produces shaft power of 2,593 brake horsepower, and drives a 1,825 kilowatt generator to produce electricity. When operating at capacity, each engine burns approximately 130.2 gallons per hour of diesel fuel with maximum sulfur content of 0.05%. The engines and facility are owned by Mille Lacs Band Corporate Commission doing business as Grand Casino Hinckley.

EPA received an application for a Federal title V Permit on December 8, 2005. On February 25, 2010, EPA made available for public comment a draft title V Permit (permit no. V-ML-2711500031-2010-01) and a draft modification of the PSD permit (permit no. PSD-ML-2711500031-2010-02). The title V permit incorporated all applicable air quality requirements for the engines, including the monitoring necessary to ensure compliance with these requirements. The draft modification of the PSD permit was issued because the facility, during the title V permit application process, requested a change to the PSD permit's emissions testing frequency from every three years to every five years. EPA provided the public with 30 days to comment on the draft permits. EPA received comments on the title V permit from the permit applicant requesting minor, clarifying revisions to the permit and requesting removal of the initial performance testing requirement in light of the more stringent testing required by the National Emissions Standards for Hazardous Air Pollutants, subpart ZZZZ. EPA made the minor, clarifying revisions and changed the initial performance testing requirement's deadline from “within 180 days of issuance of this permit” to “upon request of the EPA,” which makes this term consistent with the PSD permit. EPA did not receive comments on the modification to the PSD permit. EPA finalized the permits and provided copies to the applicant pursuant to 40 CFR 71.11(i). The final permits and EPA's responses to public comments can be viewed online at http://yosemite.epa.gov/r5/r5ard.nsf/Tribal+Permits!OpenView.

B. What is the purpose of this Notice?

EPA is notifying the public of the issuance of the title V and PSD permits to Grand Casino Hinckley on December 30, 2010. The permits became effective on January 29, 2011.

Dated: February 14, 2011.
Susan Hedman,
Regional Administrator, Region 5.

[FR Doc. 2011-4378 Filed 2-25-11; 8:45 am]

BILLING CODE 6560-50-P